Proclamation 8687 of May 31, 2011

Great Outdoors Month, 2011

By the President of the United States of America

A Proclamation

For generations, America’s great outdoors have ignited our imaginations, bolstered our economy, and fueled our national spirit of adventure and independence. The United States holds a stunning array of natural beauty—from sweeping rangelands and tranquil beaches, to forests stretching over rolling hills and rivers raging through stone-faced cliffs. During Great Outdoors Month, we rededicate ourselves to experiencing and protecting these unique landscapes and treasured sites.

As America’s frontier diminished and our cities expanded, a few bold leaders and individuals had the foresight to protect our most precious natural and historic places. Today, we all share the responsibility to uphold their legacy of conservation, whether by protecting an iconic vast public land, or by creating a community garden or an urban park. Last year, I was proud to launch the America’s Great Outdoors Initiative, a project that empowers Americans to help build a new approach to conservation and outdoor recreation. My Administration hosted dozens of regional listening sessions to collect ideas from people from across our country with a stake in the health of our environment and natural places. Our conversations with businesspeople, ranchers, hunters, fishermen, tribal leaders, students, and community groups led to a report unveiled in February, America’s Great Outdoors: A Promise to Future Generations, which lays the foundation for smarter, more community-driven action to protect our invaluable natural heritage.

Our plan will restore and increase recreational access to public lands and waterways; bolster rural landscapes, including working farms and ranches; develop the next generation of urban parks and community green spaces; and create a new Conservation Service Corps so that young people can experience and restore the great outdoors. To implement these recommendations, my Administration is dedicated to building strong working relationships with State, local, and tribal governments, as well as community, private, and non-profit partners across America. The First Lady’s “Let’s Move!” initiative encourages youth to enjoy what our outdoors have to offer. These programs and partnerships will improve our quality of life and our health, rejuvenate local and regional economies, spur job creation, protect wildlife and historic places, and ensure our natural legacy endures for generations to come. All Americans can read the report and learn more at www.AmericasGreatOutdoors.gov.

As we commit to protecting our country’s outdoor spaces, we also celebrate all they have to offer. Our public lands and other open areas provide myriad opportunities for families and friends to explore, play, and grow together—from hiking and wildlife watching to canoeing, hunting, and fishing, and playing in a neighborhood park. These activities can help our kids stay healthy, active, and energized, while reconnecting with their natural heritage. This month, let each of us resolve to protect our great outdoors; discover their wonders; and share them with our friends, our neighbors, and our children.

NOW, THEREFORE, I, BARACK OBAMA, President of the United States of America, by virtue of the authority vested in me by the Constitution and the laws of the United States, do hereby proclaim June 2011 as Great Outdoors Month. I urge all Americans to explore the great outdoors and to uphold our Nation’s legacy of conserving our lands for future generations.

IN WITNESS WHEREOF, I have hereunto set my hand this thirty-first day of May, in the year of our Lord two thousand eleven, and of the Independence of the United States of America the two hundred and thirty-fifth.

[FR Doc. 2011-14185

Filed 6-6-11; 8:45 am]

Billing code 3195-W1-P